OFFICE OF PERSONNEL MANAGEMENT

Submission for Review: Application for 10-Point Veteran Preference, 3206-0001

AGENCY: U.S. Office of Personnel Management.

ACTION: 30-Day Notice and request for comments.

SUMMARY: The Office of Personnel Management (OPM) offers the general public and other Federal agencies the opportunity to comment on an extension of an already existing information collection request (ICR) 3206-0001, Application for 10-Point Veterans' Preference. As required by the Paperwork Reduction Act of 1995 (Pub. L. 104-13, 44 U.S.C. chapter 35), as amended by the Clinger-Cohen Act (Pub. L. 104-106), OPM is soliciting comments for this collection on behalf of the Office of Management and Budget. The information collection was previously published in the Federal Register on June 14, 2010, at 75 FR 33657 allowing for a 60-day public comment period. One agency provided suggested changes to the form which are outside the scope of this notice. The purpose of this notice is to allow an additional 30 days for public comments. The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

DATES: Comments are encouraged and will be accepted until September 29, 2010. This process is conducted in accordance with 5 CFR 1320.1.

ADDRESSES: Interested persons are invited to submit written comments on the proposed information collection to the Office of Information and Regulatory Affairs, Office of Management and Budget, 725 17th Street, NW., Washington, DC 20503, Attention: Desk Officer for the Office of Personnel Management or sent via electronic mail to oira_submission@omb.eop.gov or faxed to (202) 395-6974.

FOR FURTHER INFORMATION CONTACT: A copy of this ICR, with applicable supporting documentation, may be obtained by contacting the Office of Information and Regulatory Affairs, Office of Management and Budget, 725 17th Street, NW., Washington, DC 20503, Attention: Desk Officer for the Office of Personnel Management or sent via electronic mail to oira_submission@omb.eop.gov or faxed to (202) 395-6974.

SUPPLEMENTARY INFORMATION: The Standard Form (SF) 15, Application for 10-Point Veterans' Preference, is used by OPM examining offices and agency appointing officials to adjudicate individuals' claims for veterans' preference in accordance with the Veterans' Preference Act of 1944.

Analysis:

Agency: Employee Services, Office of Personnel Management.

Title: Application for 10-Point Veteran Preference.

OMB Number: 3206-0001.

Affected Public: Federal Employees, retirees, individuals and households.

Number of Respondents: 18,418.

Estimated Time per Respondent: 10 minutes/hour.

Total Burden Hours: 3,070 hours.

U.S. Office of Personnel Management.
John Berry,
Director.

[FR Doc. 2010-21541 Filed 8-27-10; 8:45 am]

BILLING CODE 6325-38-P